DEPARTMENT OF THE INTERIOR

Office of the Secretary

Invasive Species Advisory Committee

AGENCY: Office of the Secretary, Interior.

ACTION: Notice of Public Meetings of the Invasive Species Advisory Committee.

SUMMARY: Pursuant to the provisions of the Federal Advisory Committee Act, notice is hereby given of meetings of the Invasive Species Advisory Committee (ISAC). Comprised of 31 nonfederal invasive species experts and stakeholders from across the nation, the purpose of the Advisory Committee is to provide advice to the National Invasive Species Council, as authorized by Executive Order 13112, on a broad array of issues related to preventing the introduction of invasive species and providing for their control and minimizing the economic, ecological, and human health impacts that invasive species cause. The Council is co-chaired by the Secretary of the Interior, the Secretary of Agriculture, and the Secretary of Commerce. The duty of the Council is to provide national leadership regarding invasive species issues.

Purpose of Meeting: The meeting will be held on May 13-15, 2014 in Arlington, Virginia. The purpose of the meeting is to convene the full ISAC and to provide expert input and recommendations to NISC federal agencies and their partners on invasive species matters of national importance. While in session, ISAC will: (1) Provide input on priority actions to include in the National Invasive Species Management Plan revision; (2) receive an initial report on a pilot project to protect forest health in an urban setting; (3) finalize an ISAC White Paper on the role of utilization (including harvest) of invasive species in control programs; (4) review a draft report on the management of invasive species in the context of climate change; and, (5) consider technical input and guidance related to invasive species for consideration by the United States Forest Service for inclusion in their Forest Service Handbook. The meeting agenda will be available on the NISC Web site, www.invasivespecies.gov, on or about Friday, April 18, 2014. Supplemental materials will be uploaded to the site on or before Friday May 1, 2014.

DATES: Meeting of the Invasive Species Advisory Committee: Tuesday, May 13, 2014 through Wednesday, May 14, 2014; 8:30 a.m. to 5:00 p.m. Thursday, May 15, 2014; 8:30 a.m.-1:00 p.m.

ADDRESSES: Headquarters of the U.S. Fish and Wildlife Service, 4401 North Fairfax Drive, Arlington, VA 22203. The general session will be held in Room 530. Note: All meeting participants and interested members of the public must be cleared through building security prior to being escorted to the meeting.

FOR FURTHER INFORMATION CONTACT: Kelsey Brantley, National Invasive Species Council Program Specialist and ISAC Coordinator, Phone: (202) 513-7243; Fax: (202) 371-1751; email: Kelsey_Brantley@ios.doi.gov. Additional information can also be obtained from the NISC Web site, www.invasivespecies.gov.

Dated: April 11, 2014.
Lori Williams,
Executive Director, National Invasive Species Council.

[FR Doc. 2014-08852 Filed 4-17-14; 8:45 am]

BILLING CODE 4310-RK-P